DEPARTMENT OF TRANSPORTATION

Federal Aviation Administration

Commercial Space Transportation Advisory Committee; Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of two teleconferences of the Systems Working Group of the Commercial Space Transportation Advisory Committee (COMSTAC).

DATES: The teleconferences will take place on Thursday, March 21, 2013, and Tuesday, April 16, 2013. Both teleconferences will begin at 1:00 p.m. Eastern Time and will last approximately one hour. The presentation and call-in number will be posted at least one week in advance at http://www.ast.faa.gov/.

FOR FURTHER INFORMATION CONTACT: Paul Eckert (AST-3), Office of Commercial Space Transportation (AST), 800 Independence Avenue SW., Room 331, Washington, DC 20591, telephone (202) 267-8655; Email paul.eckert@faa.gov. Complete information regarding COMSTAC is available on the FAA Web site at: http://www.faa.gov/about/office_org/headquarters_offices/ast/advisory_committee/.

SUPPLEMENTARY INFORMATION: The purpose of these two teleconferences is to assist the FAA in its development of guidelines for the safety of occupants of commercial suborbital and orbital spacecraft. In a Federal Register notice dated July 30, 2012, the FAA announced its desire to engage with COMSTAC on a periodic basis, approximately once per month, on specific topics. Six teleconferences have been held to date. The two teleconferences announced today are the last two planned until the FAA issues draft guidelines. The topics for the two teleconferences are as follows:

(1) Medical Best Practices for Crew and Space Flight Participants. We would like to explore industry views on medical best practices for occupant safety, to include ensuring that safety critical operations personnel and spaceflight participants are physically capable of performing safety critical tasks. We would like to discuss the following questions from a guidance perspective:

a. What is the appropriate level of medical screening for safety critical operations personnel?

b. What is the appropriate level of medical screening for spaceflight participants?

c. Should there be medical criteria for ending a flight early due to crew or spaceflight participant illness or medical emergency?

d. What type of medical kit should be recommended?

e. What type of flight crew medical training should be recommended?

f. How do the answers to these questions depend on whether a flight is sub-orbital or orbital?

(2) Communications and Commanding Best Practices for Minimum Level of Safety. To date, communications (voice, telemetry and command) have been an important element in every human spaceflight mission and the FAA would like to explore industry best practices in this area. We will discuss the following questions from a guidance perspective:

a. Should vehicle-to-ground communications be considered a critical function?

b. What would be the appropriate coverage for the different phases of flight (prelaunch, ascent, orbit, entry, post-landing and aborts)?

c. Should ground voice, telemetry, or commanding be allowed to serve as a part of a hazard control?

d. When would intra-vehicle voice communication be recommended?

e. Should a minimum threshold be set for intelligibility level? What would it be?

f. When would ground monitoring of telemetry and ground control be recommended?

g. What should be included in the telemetry, and how often should it update?

h. Should encryption be required for critical commands?

Interested members of the public may submit relevant written statements for the COMSTAC working group members to consider under the advisory process. Statements may concern the issues and agenda items mentioned above or additional issues that may be relevant for the U.S. commercial space transportation industry. Interested parties wishing to submit written statements should contact Paul Eckert, Designated Federal Officer (the person listed in the FOR FURTHER INFORMATION CONTACT section), in writing (mail or email) by March 14, 2013 for the March 21 teleconference, and April 9, 2013 for the April 16 teleconference. This way the information can be made available to COMSTAC members for their review and consideration before each teleconference. Written statements should be supplied in the following formats: one hard copy with original signature or one electronic copy via email.

Individuals who plan to participate and need special assistance should inform the person listed in the FOR FURTHER INFORMATION CONTACT section in advance of the meeting.

Issued in Washington, DC, on February 27, 2013.
George C. Nield,
Associate Administrator for Commercial Space Transportation.

[FR Doc. 2013-05066 Filed 3-4-13; 8:45 am]

BILLING CODE 4910-13-P